DEPARTMENT OF ENERGY

Federal Energy Regulatory Commission

Combined Notice of Filings No. 2

November 8, 2010.

Take notice that the Commission has received the following Natural Gas Pipeline Rate and Refund Report filings:

Docket Numbers: RP10-1159-001.

Applicants: ANR Storage Company.

Description: ANR Storage Company submits tariff section 6.11.11-GT&C North American Energy Standards Board, v.3.0 etc., to be effective 11/1/2010.

Filed Date: 11/05/2010.

Accession Number: 20101105-5068.

Comment Date: 5 p.m. Eastern Time on Wednesday, November 17, 2010.

Docket Numbers: RP10-1037-001.

Applicants: Granite State Gas Transmission, Inc.

Description: Granite State Gas Transmission, Inc. Filing Addressing Compliance Obligations in Docket Nos. RP10-963, et al.

Filed Date: 11/02/2010.

Accession Number: 20101102-5196.

Comment Date: 5 p.m. Eastern Time on Monday, November 15, 2010.

Docket Numbers: RP10-1174-001.

Applicants: Fayetteville Express Pipeline LLC.

Description: Fayetteville Express Pipeline LLC submits tariff filing per 154.203: NAESB Compliance Filing to be effective 11/1/2010.

Filed Date: 11/02/2010.

Accession Number: 20101102-5170.

Comment Date: 5 p.m. Eastern Time on Monday, November 15, 2010.

Docket Numbers: RP10-1313-001.

Applicants: National Grid LNG, LP.

Description: National Grid LNG, LP submits tariff filing per 154.203: Compliance Filing to Upload Approved Changes From Aug. 31 and Sept. 16 Filings to be effective 11/1/2010.

Filed Date: 11/02/2010.

Accession Number: 20101102-5197.

Comment Date: 5 p.m. Eastern Time on Monday, November 15, 2010.

Docket Numbers: RP10-963-002.

Applicants: Granite State Gas Transmission, Inc.

Description: Granite State Gas Transmission, Inc. Filing Addressing Compliance Obligations.

Filed Date: 11/02/2010.

Accession Number: 20101102-5196.

Comment Date: 5 p.m. Eastern Time on Monday, November 15, 2010.

Docket Numbers: RP11-39-001.

Applicants: Kinder Morgan Interstate Gas Transmission LLC.

Description: Kinder Morgan Interstate Gas Transmission LLC submits tariff filing per 154.205(b): Amendment to RP11-39 Negotiated Rate 11-6-10 Aventine to be effective 10/15/2010.

Filed Date: 11/02/2010.

Accession Number: 20101102-5169.

Comment Date: 5 p.m. Eastern Time on Monday, November 15, 2010.

Docket Numbers: RP10-1341-001.

Applicants: Dauphin Island Gathering Partners.

Description: Dauphin Island Gathering Partners submits tariff filing per 154.203: Baseline Correction to be effective 9/24/2010 under RP10-01341-001 Filing Type: 580.

Filed Date: 11/08/2010.

Accession Number: 20101108-5042.

Comment Date: 5 p.m. Eastern Time on Monday, November 22, 2010.

Docket Numbers: RP10-1341-001.

Applicants: Dauphin Island Gathering Partners.

Description: Dauphin Island Gathering Partners submits tariff filing per 154.203: Baseline Correction to be effective 9/24/2010.

Filed Date: 11/08/2010.

Accession Number: 20101108-5042.

Comment Date: 5 p.m. Eastern Time on Monday, November 22, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-28920 Filed 11-16-10; 8:45 am]

BILLING CODE 6717-01-P